DEPARTMENT OF THE INTERIOR

Bureau of Land Management

[LLMT922200-16-L13100000-FI0000-P; NDM 98943]

Notice of Proposed Reinstatement of Terminated Oil and Gas Lease NDM 98943, North Dakota

AGENCY: Bureau of Land Management, Interior.

ACTION: Notice.

SUMMARY: Linn Energy Holdings LLC, MBI Oil and Gas LLC, Montana Oil Properties Inc., Slawson Exploration Company Inc. and Stewart Geological Inc. have timely filed a petition for reinstatement of competitive oil and gas lease NDM 98943, which is located in Mountrail County, North Dakota. The petition was filed on time and consistent with the Mineral Leasing Act of 1920. The lessee has paid the required rentals accruing from the date of termination. No leases were issued that affect these lands.

FOR FURTHER INFORMATION CONTACT: Kimberly Werven, Chief, Fluids Adjudication Section, Bureau of Land Management Montana State Office, 5001 Southgate Drive, Billings, Montana 59101-4669, 406-896-5091, kwerven@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In connection with this lease reinstatement, the lessees agree to new lease terms for rentals and royalties specified in the applicable regulations—$10 per acre, or fraction thereof, per year, and 16-⅔ percent, respectively. The lessees agree to additional or amended stipulations. The lessees paid the $500 administration fee for the reinstatement of the lease and $163 cost for publishing this Notice. The lessees also agreed to the amended lease stipulations described in the associated Reinstatement Certification. As result, the lessees have met the requirements for reinstatement of the lease under Sec. 31(d) and (e) of the Mineral Leasing Act of 1920. We are proposing to reinstate the lease, effective the date of termination subject to the:

• Original terms and conditions of the lease;

• Additional and amended stipulations as specified in the Reinstatement Certification;

• Increased rental of $10 per acre;

• Increased royalty of 16-⅔ percent; and

• $163 cost of publishing this Notice.

Kimberly Werven,
Chief, Fluids Adjudication Section.

[FR Doc. 2016-16777 Filed 7-14-16; 8:45 am]

BILLING CODE 4310-DN-P